DEPARTMENT OF ENERGY

Federal Energy Regulatory Commission

Combined Notice of Filings

Take notice that the Commission has received the following Natural Gas Pipeline Rate and Refund Report filings:

Filings Instituting Proceedings

Docket Numbers: RP24-273-000.

Applicants: Tennessee Gas Pipeline Company, L.L.C.

Description: § 4(d) Rate Filing: Negotiated Rate Agreements Filing (Citadel_ExxonMobil_NRG) to be effective 1/1/2024.

Filed Date: 12/28/23.

Accession Number: 20231228-5212.

Comment Date: 5 p.m. ET 1/9/24.

Docket Numbers: RP24-274-000.

Applicants: Florida Gas Transmission Company, LLC.

Description: Compliance filing: Annual Accounting Report on 12-29-23 to be effective N/A.

Filed Date: 12/29/23.

Accession Number: 20231229-5019.

Comment Date: 5 p.m. ET 1/10/24.

Docket Numbers: RP24-275-000.

Applicants: Sea Robin Pipeline Company, LLC.

Description: § 4(d) Rate Filing: Annual Flowthrough Crediting Mechanism Filing 12-29-23 to be effective 2/1/2024.

Filed Date: 12/29/23.

Accession Number: 20231229-5025.

Comment Date: 5 p.m. ET 1/10/24.

Docket Numbers: RP24-276-000.

Applicants: WBI Energy Transmission, Inc.

Description: § 4(d) Rate Filing: 2023 Negotiated and Non-Conforming SA—ONEOK(FT-1916) to be effective 2/1/2024.

Filed Date: 12/29/23.

Accession Number: 20231229-5070.

Comment Date: 5 p.m. ET 1/10/24.

Docket Numbers: RP24-277-000.

Applicants: El Paso Natural Gas Company, L.L.C.

Description: § 4(d) Rate Filing: Negotiated Rate Agreement Update (Conoco Jan 2024) to be effective 1/1/2024.

Filed Date: 12/29/23.

Accession Number: 20231229-5106.

Comment Date: 5 p.m. ET 1/10/24.

Docket Numbers: RP24-278-000.

Applicants: El Paso Natural Gas Company, L.L.C.

Description: § 4(d) Rate Filing: Negotiated Rate Agreement Update (TMV Jan 2024) to be effective 1/1/2024.

Filed Date: 12/29/23.

Accession Number: 20231229-5109.

Comment Date: 5 p.m. ET 1/10/24.

Docket Numbers: RP24-279-000.

Applicants: El Paso Natural Gas Company, L.L.C.

Description: § 4(d) Rate Filing: Negotiated Rate Update (Hartree 615843_610670_614700 Jan 24) to be effective 1/1/2024.

Filed Date: 12/29/23.

Accession Number: 20231229-5115.

Comment Date: 5 p.m. ET 1/10/24.

Docket Numbers: RP24-280-000.

Applicants: Rockies Express Pipeline LLC.

Description: § 4(d) Rate Filing: REX 2023-12-29 Negotiated Rate Agreements and Amendment to be effective 1/1/2024.

Filed Date: 12/29/23.

Accession Number: 20231229-5124.

Comment Date: 5 p.m. ET 1/10/24.

Docket Numbers: RP24-281-000.

Applicants: Ruby Pipeline, L.L.C.

Description: § 4(d) Rate Filing: RP 2023-12-29 GT&C Revisions to be effective 1/29/2024.

Filed Date: 12/29/23.

Accession Number: 20231229-5126.

Comment Date: 5 p.m. ET 1/10/24.

Docket Numbers: RP24-282-000.

Applicants: Northern Natural Gas Company.

Description: § 4(d) Rate Filing: 20231229 Negotiated Rate to be effective 1/1/2024.

Filed Date: 12/29/23.

Accession Number: 20231229-5168.

Comment Date: 5 p.m. ET 1/10/24.

Docket Numbers: RP24-283-000.

Applicants: Southern Star Central Gas Pipeline, Inc.

Description: § 4(d) Rate Filing: Vol. 2 Filing—Negotiated Rate Agreements—Scout Energy Group III and V to be effective 1/1/2024.

Filed Date: 12/29/23.

Accession Number: 20231229-5173.

Comment Date: 5 p.m. ET 1/10/24.

Docket Numbers: RP24-284-000.

Applicants: Columbia Gas Transmission, LLC.

Description: Compliance filing: Penalty Revenue Crediting Report 2023 to be effective N/A.

Filed Date: 12/29/23.

Accession Number: 20231229-5193.

Comment Date: 5 p.m. ET 1/10/24.

Docket Numbers: RP24-285-000.

Applicants: Columbia Gulf Transmission, LLC.

Description: Compliance filing: Penalty Revenue Credit Report 2023 to be effective N/A.

Filed Date: 12/29/23.

Accession Number: 20231229-5200.

Comment Date: 5 p.m. ET 1/10/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 29, 2023.
Debbie-Anne A. Reese,
Deputy Secretary.

[FR Doc. 2024-00032 Filed 1-4-24; 8:45 am]

BILLING CODE 6717-01-P